DEPARTMENT OF THE TREASURY

Office of Foreign Assets Control

Additional Designation of Entities Pursuant to Executive Order 13382

AGENCY: Office of Foreign Assets Control, Treasury.

ACTION: Notice.

SUMMARY: The Treasury Department's Office of Foreign Assets Control (“OFAC”) is publishing the names of 19 newly-designated entities whose property and interests in property are blocked pursuant to Executive Order 13382 of June 28, 2005, “Blocking Property of Weapons of Mass Destruction Proliferators and Their Supporters” and 123 related vessels.

DATES: The designation by the Director of OFAC of the 19 entities identified in this notice pursuant to Executive Order 13382 is effective on September 10, 2008.

FOR FURTHER INFORMATION CONTACT: Assistant Director, Compliance Outreach & Implementation, Office of Foreign Assets Control, Department of the Treasury, Washington, DC 20220, tel.: (202) 622-2490.

SUPPLEMENTARY INFORMATION:

Electronic and Facsimile Availability

This document and additional information concerning OFAC are available from OFAC's Web site (http://www.treas.gov/offices/enforcement/ofac) or via facsimile through a 24-hour fax-on demand service, tel.: (202) 622-0077.

Background:

On June 28, 2005, the President, invoking the authority, inter alia, of the International Emergency Economic Powers Act (50 U.S.C. 1701-1706) (“IEEPA”), issued Executive Order 13382 (70 FR 38567, July 1, 2005) (the “Order”), effective at 12:01 a.m. eastern daylight time on June 29, 2005. In the Order, the President took additional steps with respect to the national emergency described and declared in Executive Order 12938 of November 14, 1994, regarding the proliferation of weapons of mass destruction and the means of delivering them.

Section 1 of the Order blocks, with certain exceptions, all property and interests in property that are in the United States, or that hereafter come within the United States or that are or hereafter come within the possession or control of United States persons, of: (1) The persons listed in an Annex to the Order; (2) any foreign person determined by the Secretary of State, in consultation with the Secretary of the Treasury, the Attorney General, and other relevant agencies, to have engaged, or attempted to engage, in activities or transactions that have materially contributed to, or pose a risk of materially contributing to, the proliferation of weapons of mass destruction or their means of delivery (including missiles capable of delivering such weapons), including any efforts to manufacture, acquire, possess, develop, transport, transfer or use such items, by any person or foreign country of proliferation concern; (3) any person determined by the Secretary of the Treasury, in consultation with the Secretary of State, the Attorney General, and other relevant agencies, to have provided, or attempted to provide, financial, material, technological or other support for, or goods or services in support of, any activity or transaction described in clause (2) above or any person whose property and interests in property are blocked pursuant to the Order; and (4) any person determined by the Secretary of the Treasury, in consultation with the Secretary of State, the Attorney General, and other relevant agencies, to be owned or controlled by, or acting or purporting to act for or on behalf of, directly or indirectly, any person whose property and interests in property are blocked pursuant to the Order.

On September 10, 2008, the Director of OFAC, in consultation with the Departments of State, Justice, and other relevant agencies, designated 19 entities whose property and interests in property are blocked pursuant to Executive Order 13382.

The list of additional designees is as follows:

1. ASIA MARINE NETWORK PTE. LTD. (a.k.a. ASIAN PERFECT MARINE PTE. LTD.; a.k.a. IRISL ASIA PTE. LTD.), 200 Middle Road, #14-01 Prime Centre 188980, Singapore [NPWMD].

2. CISCO SHIPPING COMPANY CO. LTD. (a.k.a. IRISL KOREA CO., LTD.; a.k.a. SEOUL INTERNATIONAL SHIPPING COMPANY; a.k.a. SISCO), 18th Floor, Sebang Building, 708-8, Yeoksam-dong, Kangnam-Gu, Seoul, Korea, South; 4th Floor, Sebang Building 68-46, Jwacheon-Dong, Dong-Gu, Busan, Korea, South [NPWMD].

3. IRAN O HIND SHIPPING COMPANY (a.k.a. IHSC; a.k.a. IRANO HIND SHIPPING COMPANY; a.k.a. IRANOHIND SHIPPING COMPANY (PJS); a.k.a. KESHTIRANI IRAN VE HEND SAHAMI KHASS), 265, Next to Mehrshad, Sedaghat St., Opposite of Mellat Park, Vali Asr Ave., Tehran 1A001, Iran; 18 Mehrshad Street, Sadaghat Street, Opposite of Park Mellat, Vali-e-Asr Ave., Tehran, Iran [NPWMD].

4. IRAN O MISR SHIPPING COMPANY (a.k.a. IRAN & EGYPT SHIPPING LINES; a.k.a. IRANMISR SHIPPING CO.), El Nahda Building, Elnahda St., 4th Floor, Port Said, Egypt; No. 41, 3rd Floor, Corner of 6th Alley, Sanaei St., Karim Khan Zand Ave., Tehran, Iran; 6 El Horreya Avenue, Alexandria, Egypt [NPWMD].

5. IRINVESTSHIP LTD., Global House, 61 Petty France, London SW1H 9EU, United Kingdom; Business Registration Document # 4110179 (United Kingdom) [NPWMD].

6. IRISL BENELUX NV, Noorderlaan 139, B-2030, Antwerp, Belgium; V.A.T. Number BE480224531 (Belgium) [NPWMD].

7. IRISL CHINA SHIPPING CO., LTD. (a.k.a. YI HANG SHIPPING COMPANY, LTD.), F23A-D, Times Plaza No. 1, Taizi Road, Shekou, Shenzhen 518067, China [NPWMD].

8. IRISL EUROPE GMBH, Schottweg 5, 22087, Hamburg, Germany; V.A.T. Number DE217283818 (Germany) [NPWMD].

9. IRISL (MALTA) LIMITED, Flat 1, 181, Tower Road, Sliema SLM 1604, Malta; Business Registration Document # C33735 (Malta); Tax ID No. MT 17037313 (Malta) [NPWMD].

10. IRISL MARINE SERVICES & ENGINEERING COMPANY (a.k.a. IMSENGCO; a.k.a. SHERKATE KHADAMTE DARYA AND MOHAMDESI KESHTIRANI), No. 221, Northern Iranshahr St., Karimkhan Ave., Tehran, Iran; Karim Khan Zand Ave., Iran Shahr Shomai, No. 221, Tehran, Iran; Sarbandar, Gas Station, P.O. Box 199, Bandar Imam Khomeini, Iran [NPWMD].

11. IRISL MULTIMODAL TRANSPORT CO. (a.k.a. RAIL IRAN SHIPPING COMPANY), No. 25, Shahid Arabi Line, Sanaei St., Karimkhan Zand St., Tehran, Iran [NPWMD].

12. IRISL (UK) LTD., 2 Abbey Rd., Barking, Essex IG11 7 AX, United Kingdom; Business Registration Document # 4765305 (United Kingdom) [NPWMD].

13. IRITAL SHIPPING SRL COMPANY, Ponte Francesco Morosini 59, 16126 Genova (GE), Italy; Commercial Registry Number GE 426505 (Italy); Italian Fiscal Code 03329300101 (Italy); V.A.T. Number 12869140157 (Italy) [NPWMD].

14. ISLAMIC REPUBLIC OF IRAN SHIPPING LINES (a.k.a. ARYA SHIPPING COMPANY; a.k.a. IRI SHIPPING LINES; a.k.a. IRISL; a.k.a. IRISL GROUP), No. 37, Aseman Tower, Sayyade Shirazee Square, Pasdaran Ave., P.O. Box 19395-1311, Tehran, Iran; No. 37, Corner of 7th Narenjestan, Sayad Shirazi Square, After Noboyand Square, Pasdaran Ave., Tehran, Iran [NPWMD].

15. KHAZAR SEA SHIPPING LINES (a.k.a. DARYA-YE KHAZAR SHIPPING COMPANY; a.k.a. KHAZAR SHIPPING CO), M. Khomeini St., Ghazian, Bandar Anzali, Gilan, Iran; No. 1, End of Shahid Mostafa Khomeini St., Tohid Square, P.O. Box 43145, Bandar Anzali 1711-324, Iran [NPWMD].

16. OASIS FREIGHT AGENCIES (a.k.a. OASIS FREIGHT AGENCY LLC), Sharaf Building, 1st Floor, Al Mankhool St., Bur Dubai, P.O. Box 5562, Dubai, United Arab Emirates; Sharaf Building, No. 4, 2nd Floor, Al Meena Road, Opposite Customs, Dubai, United Arab Emirates; Kayed Ahli Building, Jamal Abdul Nasser Road (Parallel to Al Wahda St.), P.O. Box 4840, Sharjah, United Arab Emirates [NPWMD].

17. SHIPPING COMPUTER SERVICES COMPANY (a.k.a. SCSCO), No. 37, Asseman, Shahid Sayyad Shirazeesq, Pasdaran Ave., P.O. Box 1587553-1351, Tehran, Iran; No. 13, 1st Floor, Abgan Alley, Aban Ave., Karimkhan Zand Blvd., Tehran 15976, Iran [NPWMD].

18. SOUTH SHIPPING LINE IRAN (a.k.a. SOUTH SHIPPING LINES IRAN COMPANY), Qaem Magham Farahani St., Tehran, Iran; Apt. No. 7, 3rd Floor, No. 2, 4th Alley, Gandi Ave., Tehran, Iran [NPWMD].

19. VALFAJR 8TH SHIPPING LINE CO SSK (a.k.a. SHERKAT SAHAMI KHASS KESHTIRANI VALFAJR 8TH; a.k.a. VAL FAJR HASHT SHIPPING CO; a.k.a. VAL FAJR-E-8 SHIPPING COMPANY; a.k.a. VALFAJRE EIGHT SHIPPING CO; a.k.a. VESC), Shahid Azodi St., Karimkhan Zand Ave., Abiar Alley, P.O. Box 4155, Tehran, Iran; Abyar Alley, Corner of Shahid Azodi St. & Karim Khan Zand Ave., Tehran, Iran [NPWMD].

In addition to the entities listed above, OFAC has identified the following 123 vessels as property of the Islamic Republic of Iran Shipping Lines (IRISL). Banks are instructed to reject any funds transfer referencing a blocked vessel and must notify OFAC, via facsimile with a copy of the payment instructions that funds have been returned to the remitter due to the possible involvement of a SDN vessel in the underlying transaction. This instruction was inadvertently removed from the list of blocked persons, 31 CFR, Chapter V, Appendix A, on July 1, 2008.

The list of vessels is as follows:

1. ATTAR Bulk Carrier 43,706DWT 25,885GRT Malta flag (IRISL); Vessel Registration Identification IMO 9074092 (vessel) [NPWMD].

2. BRELYAN General Cargo Iran flag (IRISL); Vessel Registration Identification IMO 9138056 (vessel) [NPWMD].

3. BRIGHTNESS (a.k.a. IRAN BRIGHTNESS) General Cargo 24,065DWT 16,621GRT Malta flag (IRISL); Vessel Registration Identification IMO 9051648 (vessel)[NPWMD].

4. BRILLIANCE (a.k.a. IRAN BRILLIANCE) General Cargo 24,065DWT 16,621GRT Malta flag (IRISL); Vessel Registration Identification IMO 9051636 (vessel) [NPWMD].

5. DAIS (a.k.a. IRAN DAIS) Bulk Carrier 43,406DWT 25,768GRT Hong Kong flag (IRISL); Vessel Registration Identification IMO 8309696 (vessel) [NPWMD].

6. DANDY (a.k.a. IRAN DANDY) Bulk Carrier 43,279DWT 25,768GRT Hong Kong flag (IRISL); Vessel Registration Identification IMO 8320157 (vessel) [NPWMD].

7. DAPPER (a.k.a. IRAN DAPPER) Bulk Carrier 43,499DWT 25,768GRT Hong Kong flag (IRISL); Vessel Registration Identification IMO 8309646 (vessel) [NPWMD].

8. DECOROUS (a.k.a. IRAN DECOROUS) Bulk Carrier 43,369DWT 25,768GRT Hong Kong flag (IRISL); Vessel Registration Identification IMO 8309658 (vessel) [NPWMD].

9. DELEGATE (a.k.a. IRAN DELEGATE) Bulk Carrier 43,265DWT 25,768GRT Hong Kong flag (IRISL); Vessel Registration Identification IMO 8320121 (vessel) [NPWMD].

10. DELIGHT (a.k.a. IRAN DELIGHT) Bulk Carrier 43,218DWT 25,768GRT Hong Kong flag (IRISL); Vessel Registration Identification IMO 8320133 (vessel) [NPWMD].

11. DEVELOPER (a.k.a. IRAN DEVELOPER) Bulk Carrier 43,300DWT 25,768GRT IRAN flag (IRISL); Vessel Registration Identification IMO 8309660 (vessel) [NPWMD].

12. DEVOTEE (a.k.a. IRAN DEVOTEE) Bulk Carrier 43,369DWT 25,768GRT Hong Kong flag (IRISL); Vessel Registration Identification IMO 8309608 (vessel) [NPWMD].

13. DEVOTIONAL (a.k.a. IRAN DEVOTIONAL) Bulk Carrier 43,330DWT 25,768GRT Hong Kong flag (IRISL); Vessel Registration Identification IMO 8309684 (vessel) [NPWMD].

14. DIAMOND (a.k.a. IRAN DIAMOND) Bulk Carrier 43,369DWT 25,768GRT (IRISL); Vessel Registration Identification IMO 8309593 (vessel) [NPWMD].

15. DIGNIFIED (a.k.a. IRAN DIGNIFIED) Bulk Carrier 43,369DWT 25,768GRT Hong Kong flag (IRISL); Vessel Registration Identification IMO 8309610 (vessel) [NPWMD].

16. DIPLOMAT (a.k.a. IRAN DIPLOMAT) Bulk Carrier 43,262DWT 25,768GRT Hong Kong flag (IRISL); Vessel Registration Identification IMO 8309701 (vessel) [NPWMD].

17. DREAMLAND (a.k.a. IRAN DREAMLAND) Bulk Carrier 43,302DWT 25,770GRT Hong Kong flag (IRISL); Vessel Registration Identification IMO 8320183 (vessel) [NPWMD].

18. DRIFTER (a.k.a. IRAN DRIFTER) Bulk Carrier 43,499DWT 25,770GRT Hong Kong flag (IRISL); Vessel Registration Identification IMO 8320169 (vessel) [NPWMD].

19. DYNAMIZE (a.k.a. IRAN DYNAMIZE) Bulk Carrier 43,369DWT 25,768GRT Hong Kong flag (IRISL); Vessel Registration Identification IMO 8309634 (vessel) [NPWMD].

20. ELEVENTH OCEAN Container Ship 41,962DWT 36,014GRT Malta flag (IRISL); Vessel Registration Identification IMO 9209324 (vessel) [NPWMD].

21. FIFTH OCEAN Container Ship 79,030DWT 75,395GRT Malta flag (IRISL); Vessel Registration Identification IMO 9349667 (vessel) [NPWMD].

22. GOWHAR Ferry Iran flag (IRISL); Vessel Registration Identification IMO 9103087 (vessel) [NPWMD].

23. HORMUZ 2 Ferry Iran flag (IRISL); Vessel Registration Identification IMO 7904580 (vessel) [NPWMD].

24. IRAN ADL Bulk Carrier 37,537DWT 22,027GRT Iran flag (IRISL); Vessel Registration Identification IMO 8108559 (vessel) [NPWMD].

25. IRAN AFZAL Bulk Carrier 37,564DWT 22,027GRT Iran flag (IRISL); Vessel Registration Identification IMO 8105284 (vessel) [NPWMD].

26. IRAN AKHAVAN Bulk Carrier 34,859DWT 20,576GRT Iran flag (IRISL); Vessel Registration Identification IMO 8113009 (vessel) [NPWMD].

27. IRAN AMANAT Bulk Carrier 34,859DWT 20,576GRT Iran flag (IRISL); Vessel Registration Identification IMO 8112990 (vessel) [NPWMD].

28. IRAN AMIRABAD General Cargo 7,004DWT 5,750GRT Iran flag (IRISL); Vessel Registration Identification IMO 9368003 (vessel) [NPWMD].

29. IRAN ANZALI General Cargo 6,750DWT 5,750GRT Iran flag (IRISL); Vessel Registration Identification IMO 9367982 (vessel) [NPWMD].

30. IRAN ARAK Container Ship 29,870DWT 23,200GRT Iran flag (IRISL); Vessel Registration Identification IMO 9270646 (vessel) [NPWMD].

31. IRAN ARDEBIL Container Ship 37,875DWT 27,681GRT Iran flag (IRISL); Vessel Registration Identification IMO 9284154 (vessel) [NPWMD].

32. IRAN AZADI Bulk Carrier 35,839DWT 20,672GRT Iran flag (IRISL); Vessel Registration Identification IMO 7632838 (vessel) [NPWMD].

33. IRAN AZARBAYJAN Bulk Carrier 72,642DWT 39,424GRT Iran flag (IRISL); Vessel Registration Identification IMO 9193185 (vessel) [NPWMD].

34. IRAN BAGHAEI General Cargo 17,945DWT 13,914GRT Iran flag (IRISL); Vessel Registration Identification IMO 7502734 (vessel) [NPWMD].

35. IRAN BAGHERI General Cargo 17,928DWT 13,914GRT Iran flag (IRISL); Vessel Registration Identification IMO 7428811 (vessel) [NPWMD].

36. IRAN BAM Bulk Carrier 73,664DWT 40,166GRT Malta flag (IRISL); Vessel Registration Identification IMO 9323833 (vessel) [NPWMD].

37. IRAN BASEER General Cargo 3,955DWT 3,638GRT Iran flag (IRISL); Vessel Registration Identification IMO 9010711 (vessel) [NPWMD].

38. IRAN BASHEER General Cargo 2,850DWT 2,563GRT Iran flag (IRISL); Vessel Registration Identification IMO 8215742 (vessel) [NPWMD].

39. IRAN BIRJAND Bulk Carrier 73,664DWT 40,166GRT Malta flag (IRISL); Vessel Registration Identification IMO 9305219 (vessel) [NPWMD].

40. IRAN BOJNOORD Bulk Carrier 73,518DWT 40,166GRT Malta flag (IRISL); Vessel Registration Identification IMO 9305207 (vessel) [NPWMD].

41. IRAN BRAVE General Cargo Malta flag (IRISL); Vessel Registration Identification IMO 9051650 (vessel) [NPWMD].

42. IRAN BROOJERDI General Cargo 17,929DWT 13,914GRT Iran flag (IRISL); Vessel Registration Identification IMO 7502722 (vessel) [NPWMD].

43. IRAN BUSHEHR Container Ship 30,146DWT 23,285GRT Iran flag (IRISL); Vessel Registration Identification IMO 9270658 (vessel) [NPWMD].

44. IRAN DALEER General Cargo 5,885DWT 4,954GRT Iran flag (IRISL); Vessel Registration Identification IMO 9118551 (vessel) [NPWMD].

45. IRAN DEYANAT Bulk Carrier 43,150DWT 25,168GRT Iran flag (IRISL); Vessel Registration Identification IMO 8107579 (vessel) [NPWMD].

46. IRAN DOLPHIN Bulk Carrier Hong Kong flag (IRISL); Vessel Registration Identification IMO 8320195 (vessel) [NPWMD].

47. IRAN ENTEKHAB Bulk Carrier 35,896DWT 20,811GRT Iran flag (IRISL); Vessel Registration Identification IMO 7632814 (vessel) [NPWMD].

48. IRAN ESTEGHLAL Bulk Carrier 35,839DWT 20,811GRT Iran flag (IRISL); Vessel Registration Identification IMO 7620550 (vessel) [NPWMD].

49. IRAN FARS Container Ship 33,702DWT 25,391GRT Iran flag (IRISL); Vessel Registration Identification IMO 9283021 (vessel) [NPWMD].

50. IRAN GHADEER General Cargo 3,955DWT 3,638GRT Iran flag (IRISL); Vessel Registration Identification IMO 9010723 (vessel) [NPWMD].

51. IRAN GHAZI Bulk Carrier 43,497DWT 25,768GRT Iran flag (IRISL); Vessel Registration Identification IMO 8309672 (vessel) [NPWMD].

52. IRAN GILAN Bulk Carrier 63,400DWT 39,424GRT Malta flag (IRISL); Vessel Registration Identification IMO 9193202 (vessel) [NPWMD].

53. IRAN GOLESTAN Bulk Carrier 72,162DWT 39,517GRT Malta flag (IRISL); Vessel Registration Identification IMO 9226944 (vessel) [NPWMD].

54. IRAN HAMADAN Bulk Carrier 72,162DWT 39,517GRT Malta flag (IRISL); Vessel Registration Identification IMO 9226956 (vessel) [NPWMD].

55. IRAN HAMZEH Bulk Carrier 43,288DWT 25,770GRT Iran flag (IRISL); Vessel Registration Identification IMO 8320171 (vessel) [NPWMD].

56. IRAN HORMUZ 12 General Cargo Iran flag (IRISL); Vessel Registration Identification IMO 9005596 (vessel) [NPWMD].

57. IRAN HORMUZ 14 General Cargo Iran flag (IRISL); Vessel Registration Identification IMO 9020778 (vessel) [NPWMD].

58. IRAN HORMUZ 21 General Cargo 1,000DWT 910GRT Iran flag (IRISL); Vessel Registration Identification IMO 8314263 (vessel) [NPWMD].

59. IRAN HORMUZ 22 General Cargo 1,000DWT 910GRT Iran flag (IRISL); Vessel Registration Identification IMO 8314275 (vessel) [NPWMD].

60. IRAN HORMUZ 23 General Cargo Iran flag (IRISL); Vessel Registration Identification IMO 8319782 (vessel) [NPWMD].

61. IRAN HORMUZ 25 General Cargo Iran flag (IRISL); Vessel Registration Identification IMO 8422072 (vessel) [NPWMD].

62. IRAN HORMUZ 26 General Cargo Iran flag (IRISL); Vessel Registration Identification IMO 8422084 (vessel) [NPWMD].

63. IRAN ILAM Container Ship 37,600DWT 27,681GRT Iran flag (IRISL); Vessel Registration Identification IMO 9283033 (vessel) [NPWMD].

64. IRAN JOMHURI Bulk Carrier 35,828DWT 20,811GRT Iran flag (IRISL); Vessel Registration Identification IMO 7632826 (vessel) [NPWMD].

65. IRAN KABEER General Cargo 5,885DWT 4,991GRT Iran flag (IRISL); Vessel Registration Identification IMO 9076478 (vessel) [NPWMD].

66. IRAN KASHAN Container Ship 29,870DWT 23,200GRT Iran flag (IRISL); Vessel Registration Identification IMO 9270696 (vessel) [NPWMD].

67. IRAN KERMAN Container Ship 41,978DWT 36,014GRT Malta flag (IRISL); Vessel Registration Identification IMO 9209350 (vessel) [NPWMD].

68. IRAN KERMANSHAH Bulk Carrier 75,249DWT 40,609GRT Cyprus flag (IRISL); Vessel Registration Identification IMO 9213399 (vessel) [NPWMD].

69. IRAN KHORASAN Bulk Carrier 72,622DWT 39,424GRT Malta flag (IRISL); Vessel Registration Identification IMO 9193214 (vessel) [NPWMD].

70. IRAN KOLAHDOOZ General Cargo 17,982DWT 13,914GRT Iran flag (IRISL); Vessel Registration Identification IMO 7428809 (vessel) [NPWMD].

71. IRAN MADANI Bulk Carrier 43,369DWT 25,768GRT Iran flag (IRISL); Vessel Registration Identification IMO 8309622 (vessel) [NPWMD].

72. IRAN MAHALLATI General Cargo 17,982DWT 13,914GRT Iran flag (IRISL); Vessel Registration Identification IMO 7428823 (vessel) [NPWMD].

73. IRAN MATIN General Cargo 24,065DWT 16,621GRT Iran flag (IRISL); Vessel Registration Identification IMO 9051624 (vessel) [NPWMD].

74. IRAN MAZANDARAN Bulk Carrier 74,642DWT 39,424GRT Malta flag (IRISL); Vessel Registration Identification IMO 9193197 (vessel) [NPWMD].

75. IRAN MODARES Bulk Carrier 33,663DWT 20,049GRT Iran flag (IRISL); Vessel Registration Identification IMO 7618985 (vessel) [NPWMD].

76. IRAN NABUVAT General Cargo 19,212DWT 14,856GRT Iran flag (IRISL); Vessel Registration Identification IMO 7618571 (vessel) [NPWMD].

77. IRAN NAVAB (a.k.a. IRAN DESTINY) Bulk Carrier 43,329DWT 25,768GRT Iran flag (IRISL); Vessel Registration Identification IMO 8320145 (vessel) [NPWMD].

78. IRAN NOWSHAHR General Cargo 7,004DWT 5,676GRT Iran flag (IRISL); Vessel Registration Identification IMO 9367994 (vessel) [NPWMD].

79. IRAN PIROOZI Container Ship 33,835DWT 25,391GRT Iran flag (IRISL); Vessel Registration Identification IMO 9283007 (vessel) [NPWMD].

80. IRAN SARBAZ Bulk Carrier 34,859DWT 20,576GRT Iran flag (IRISL); Vessel Registration Identification IMO 8113011 (vessel) [NPWMD].

81. IRAN SEPAH Bulk Carrier 33,856DWT 20,361GRT Iran flag (IRISL); Vessel Registration Identification IMO 7375363 (vessel) [NPWMD].

82. IRAN SHAHED General Cargo 3,480DWT 2,615GRT Iran flag (IRISL); Vessel Registration Identification IMO 9184691 (vessel) [NPWMD].

83. IRAN SHALAMCHEH General Cargo 3,918DWT 3,135GRT Iran flag (IRISL); Vessel Registration Identification IMO 8820925 (vessel) [NPWMD].

84. IRAN SHARIAT Bulk Carrier 44,441DWT 25,168GRT Iran flag (IRISL); Vessel Registration Identification IMO 8107581 (vessel) [NPWMD].

85. IRAN TABAS Bulk Carrier 73,586DWT 40,166GRT Malta flag (IRISL); Vessel Registration Identification IMO 9305192 (vessel) [NPWMD].

86. IRAN TAKHTI General Cargo 23,720DWT 16,173GRT Iran flag (IRISL); Vessel Registration Identification IMO 7602194 (vessel) [NPWMD].

87. IRAN TEYFOURI General Cargo 23,720DWT 16,173GRT Iran flag (IRISL); Vessel Registration Identification IMO 7602211 (vessel) [NPWMD].

88. IRAN TORKAMAN General Cargo 7,004DWT 5,750GRT Iran flag (IRISL); Vessel Registration Identification IMO 9368015 (vessel) [NPWMD].

89. IRAN TUCHAL Container Ship 66,900DWT 53,453GRT Malta flag (IRISL); Vessel Registration Identification IMO 9346536 (vessel) [NPWMD].

90. IRAN YASOOJ Container Ship 33,813DWT 25,391GRT Iran flag (IRISL); Vessel Registration Identification IMO 9284142 (vessel) [NPWMD].

91. IRAN YAZD Bulk Carrier 72,642DWT 40,609GRT Cyprus flag (IRISL); Vessel Registration Identification IMO 9213387 (vessel) [NPWMD].

92. IRAN ZANJAN Container Ship 33,757DWT 25,391GRT Iran flag (IRISL); Vessel Registration Identification IMO 9283019 (vessel) [NPWMD].

93. KARIM (a.k.a. IRAN KARIM) Bulk Carrier 53,100DWT 31,117GRT Malta flag (IRISL); Vessel Registration Identification IMO 9465758 (vessel) [NPWMD].

94. LUCKY LILY (a.k.a. IRAN LUCKY LILY) General Cargo 22,882DWT 15,670GRT Malta flag (IRISL); Vessel Registration Identification IMO 9165827 (vessel) [NPWMD].

95. LUCKY MAN (a.k.a. IRAN LUCKY MAN) General Cargo 22,882DWT 15,670GRT Malta flag (IRISL); Vessel Registration Identification IMO 9165839 (vessel) [NPWMD].

96. MIR DAMAD Container Ship 5,012DWT 4,276GRT Malta flag (IRISL); Vessel Registration Identification IMO 9148491 (vessel) [NPWMD].

97. MIR EMAD Container Ship 5,012DWT 4,276GRT Malta flag (IRISL); Vessel Registration Identification IMO 9148518 (vessel) [NPWMD].

98. MIRZA KOCHEK KHAN Iran flag (IRISL); Vessel Registration Identification IMO 7027899 (vessel) [NPWMD].

99. NEGEEN Iran flag (IRISL); Vessel Registration Identification IMO 9071519 (vessel) [NPWMD].

100. NEW STATE (a.k.a. IRAN NEW STATE) Container Ship 41,937DWT 36,014GRT Malta flag (IRISL); Vessel Registration Identification IMO 9209336 (vessel) [NPWMD].

101. NINTH OCEAN General Cargo 22,882DWT 15,670GRT Malta flag (IRISL); Vessel Registration Identification IMO 9165798 (vessel) [NPWMD].

102. OCEAN CANDLE (a.k.a. IRAN OCEAN CANDLE) General Cargo 23,176DWT 16,694GRT Malta flag (IRISL); Vessel Registration Identification IMO 9167253 (vessel) [NPWMD].

103. PERSIAN GULF (a.k.a. IRAN PERSIAN GULF) Bulk Carrier 73,664DWT 40,166GRT Malta flag (IRISL); Vessel Registration Identification IMO 9305221 (vessel) [NPWMD].

104. PRETTY SEA (a.k.a. IRAN PRETTY SEA (KHUZESTAN)) General Cargo Malta flag (IRISL); Vessel Registration Identification IMO 9167277 (vessel) [NPWMD].

105. RA-EES ALI General Cargo 2,876DWT 2,576GRT Iran flag (IRISL); Vessel Registration Identification IMO 8203608 (vessel) [NPWMD].

106. RAHIM (a.k.a. IRAN RAHIM) Bulk Carrier 53,100DWT 31,117GRT Malta flag (IRISL); Vessel Registration Identification IMO 9465746 (vessel) [NPWMD].

107. SABALAN (a.k.a. IRAN SABALAN) Container Ship 66,900DWT 53,453GRT Malta flag (IRISL); Vessel Registration Identification IMO 9346524 (vessel) [NPWMD].

108. SAHAND (a.k.a. IRAN SAHAND) Container Ship 66,900DWT 53,453GRT Malta flag (IRISL); Vessel Registration Identification IMO 9328900 (vessel) [NPWMD].

109. SATTAR Bulk Carrier 43,419DWT 24,155GRT Malta flag (IRISL); Vessel Registration Identification IMO 9040479 (vessel) [NPWMD].

110. SEA BLOOM (a.k.a. IRAN SEA BLOOM) General Cargo 23,176DWT 16,694GRT Malta flag (IRISL); Vessel Registration Identification IMO 9167291 (vessel) [NPWMD].

111. SEA FLOWER General Cargo Malta flag (IRISL); Vessel Registration Identification IMO 9167289 (vessel) [NPWMD].

112. SEA STATE (a.k.a. IRAN SEA STATE) General Cargo 23,176DWT 16,694GRT Malta flag (IRISL); Vessel Registration Identification IMO 9167265 (vessel) [NPWMD].

113. SEVENTH OCEAN General Cargo 22,882DWT 15,670GRT Malta flag (IRISL); Vessel Registration Identification IMO 9165786 (vessel) [NPWMD].

114. SHAAFI (a.k.a. IRAN SHAAFI) Bulk Carrier 53,000DWT 32,474GRT Malta flag (IRISL); Vessel Registration Identification IMO 9386500 (vessel) [NPWMD].

115. SININ Bulk Carrier 52,466DWT 30,064GRT Malta flag (IRISL); Vessel Registration Identification IMO 9274941 (vessel) [NPWMD].

116. SIXTH OCEAN Container Ship 79,030DWT 75,395GRT Malta flag (IRISL); Vessel Registration Identification IMO 9349679 (vessel) [NPWMD].

117. TEEN Bulk Carrier 43,671DWT 26,828GRT Malta flag (IRISL); Vessel Registration Identification IMO 9101649 (vessel) [NPWMD].

118. TENTH OCEAN General Cargo 22,882DWT 15,670GRT Malta flag (IRISL); Vessel Registration Identification IMO 9165815 (vessel) [NPWMD].

119. TWELFTH OCEAN Container Ship 41,971DWT 36,014GRT Malta flag (IRISL); Vessel Registration Identification IMO 9209348 (vessel) [NPWMD].

120. VAAFI (a.k.a. IRAN VAAFI) Bulk Carrier 53,000DWT 32,474GRT Malta flag (IRISL); Vessel Registration Identification IMO 9387786 (vessel) [NPWMD].

121. ZAR 800DWT 644GRT Iran flag (IRISL); Vessel Registration Identification IMO 9260160 (vessel) [NPWMD].

122. ZIVAR Iran flag (IRISL); Vessel Registration Identification IMO 9260172 (vessel)[NPWMD].

123. ZOMOROUD Bulk Carrier Iran flag (IRISL); Vessel Registration Identification IMO 9138044 (vessel) [NPWMD].

Dated: December 23, 2008.
Adam J. Szubin,
Director, Office of Foreign Assets Control.

[FR Doc. E9-396 Filed 1-12-09; 8:45 am]

BILLING CODE 4811-45-P